DEPARTMENT OF JUSTICE

Notice of Lodging of Consent Decree Under the Comprehensive Environmental Response, Compensation, and Liability Act

Notice is hereby given that on April 15, 2010, a proposed Consent Decree (the “Consent Decree”) in United States v. Wall Herald Corporation, Civil Action No. 3:07-cv-04345 was lodged with the United States District Court for the District of New Jersey.

In this action, the United States sought the recovery of response costs pursuant to Section 107(a) of the Comprehensive Environmental Response, Compensation, and Recovery Act, as amended (“CERCLA”), 42 U.S.C. 9607(a), from Defendant Wall Herald Corporation (“Wall Herald”) for response costs incurred and to be incurred by the United States in performing response actions at the Monitor Devices/Intercircuits, Inc. Superfund Site (“Site”) located in Wall Township, Monmouth County, New Jersey. The proposed Consent Decree also resolves Wall Herald's counterclaims, pursuant to Sections 107 and 113 of CERCLA, 42 U.S.C. 9607 and 9613, against the Department of Defense, including but not limited to the United States Army and United States Air Force (collectively, “Settling Federal Agencies”).

Pursuant to the proposed Consent Decree, Wall Herald will pay to the United States $19,761,812.93, plus interest, to resolve its liability for past and future response costs related to the Site. The United States will pay $225,000 to EPA on behalf of the Settling Federal Agencies. In exchange for the payments to be made, Wall Herald and the Settling Federal Agencies will receive contribution protection and a covenant not to sue under Sections 106 and 107 of CERCLA for remedial cleanup and response costs relating to the Site, subject to certain reservations of rights.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, United States Department of Justice, Washington, DC 20044-7611, and should refer to United States v. Wall Herald Corporation, D.J. Ref. 90-11-3-08985.

The Consent Decree may be examined at the Office of the United States Attorney, District of New Jersey, 970 Broad Street, 7th Floor, Newark, New Jersey 07102, and at United States Environmental Protection Agency, Region 2, Office of Regional Counsel, 290 Broadway, New York, New York 10007-1866. During the public comment period, the Consent Decree may also be examined on the following Department of Justice Web site, http://www.usdoj.gov/enrd/Consent_Decrees.html. A copy of the Consent Decree may also be obtained by mail from the Consent Decree Library, P.O. Box 7611, United States Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.75 (25 cents per page reproduction cost) payable to the U.S. Treasury or, if by e-mail or fax, forward a check in that amount to the Consent Decree Library at the stated address.

Maureen Katz,
Assistant Chief, Environmental Enforcement Section, Environment and Natural Resources Division.

[FR Doc. 2010-9132 Filed 4-20-10; 8:45 am]

BILLING CODE 4410-15-P